DEPARTMENT OF JUSTICE

Antitrust Division

Notice Pursuant to the National Cooperative Research and Production Act of 1993—Storage Performance Council

Notice is hereby given that, on November 29, 2016, pursuant to Section 6(a) of the National Cooperative Research and Production Act of 1993, 15 U.S.C. 4301 et seq. (“the Act”), Storage Performance Council (“SPC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Storage Performance Council, Redwood City, CA. The nature and scope of SPC's standards development activities are: To serve as a catalyst for performance improvement in computer storage subsystems by developing benchmarks focusing on storage subsystems, facilitating third-party audits and peer review of the results of such benchmarks and publishing reports on the benchmark results.

Patricia A. Brink,
Director of Civil Enforcement, Antitrust Division.

[FR Doc. 2016-31909 Filed 1-3-17; 8:45 am]

BILLING CODE P